FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201295.

Agreement Name: Australia New Zealand South Pacific Islands Agreement.

Parties: PDL International Pte Ltd.; ANL Singapore Pte Ltd. d/b/a Sofrana ANL Pte Ltd.; Pacific Form Line (Group) Limited, and Neptune Pacific Line, Inc.

Filing Party: David Monroe; GKG Law, P.C.

Synopsis: The agreement authorizes the parties to share vessels in the trade between Australia, New Zealand, New Caledonia, Vanuatu, Fiji, Tonga, and Samoa on the one hand, and American Samoa on the other hand. The Agreement would also authorize the parties to cooperate in a revenue pooling arrangement in the trade.

Proposed Effective Date: 5/27/2019.

Location: https://www2.fmc.gov/FMC.Agreements.Web/Public/AgreementHistory/21386.

Dated: April 19, 2019.
Rachel Dickon,
Secretary.

[FR Doc. 2019-08372 Filed 4-24-19; 8:45 am]

BILLING CODE 6731-AA-P